NATIONAL ARCHIVES AND RECORDS ADMINISTRATION

[NARA-2022-003]

Renewal of National Industrial Security Program Policy Advisory Committee

AGENCY: National Archives and Records Administration.

ACTION: Notice of federal advisory committee charter renewal.

SUMMARY: The Archivist has renewed the charter for the National Archives and Records Administration's (NARA's) National Industrial Security Program Policy Advisory Committee (NISPPAC) for a 14th term. The General Services Administration (GSA) included the NISPPAC in our ceiling of approved Federal advisory committees.

DATES: NARA initially chartered the Committee on January 6, 1993. The current charter renewal will run for two years, until September 30, 2023.

ADDRESSES: NARA staff supporting the Committee are located at National Archives and Records Administration, 700 Pennsylvania Avenue NW, Information Security Oversight Office, Washington, DC 20408.

FOR FURTHER INFORMATION CONTACT: Tasha Ford, NARA Committee Management Officer, by telephone at 202.357.5496.

SUPPLEMENTARY INFORMATION: The Archivist certifies that renewing the National Industrial Security Program Policy Advisory Committee is in the public interest, due to the expertise and valuable advice the Committee members provide. We will use the Committee's recommendations on issues related to policies of the National Industrial Security Program (NISP), including recommended changes to those policies. NARA renewed the charter in accordance with provisions of section 9(a)(2) of the Federal Advisory Committee Act (Pub. L. 92-463, 5 U.S.C., app.). GSA approved the NISPPAC in accordance with Executive Order 13549.

David S. Ferriero,
Archivist of the United States.

[FR Doc. 2021-22188 Filed 10-12-21; 8:45 am]

BILLING CODE 7515-01-P